DEPARTMENT OF ENERGY

Environmental Management Site-Specific Advisory Board Chairs Meeting

AGENCY: Department of Energy.

ACTION: Notice of open meeting.

SUMMARY: This notice announces a meeting of the Environmental Management Site Specific Advisory Board (EM SSAB) Chairs. The Federal Advisory Committee Act (Pub. L. No. 92-463, 86 Stat. 770) requires that public notice of these meeting be announced in the Federal Register.

DATES: Thursday, April 27, 2006. 8:15 a.m.-5:15 p.m. Friday, April 28, 2006. 8:15 a.m.-12 p.m.

ADDRESSES: Cumberland House Hotel, 1109 White Avenue, Knoxville, Tennessee 37916. (865) 971-4663.

FOR FURTHER INFORMATION CONTACT: Douglas E. Frost, Designated Federal Officer, U.S. Department of Energy, 1000 Independence Avenue, SW., Washington, DC 20585, (202) 586-5619.

SUPPLEMENTARY INFORMATION: Purpose of the Board: The purpose of the EM SSAB is to make recommendations to DOE in the areas of environmental restoration, waste management, and related activities.

Tentative Agenda

Thursday, April 27, 2006

8:15 a.m. Welcome and Overview, and review of meeting objectives, agenda, and ground rules.

8:45 a.m. Update on Waste Disposition Strategy.

10 a.m. Break.

10:15 a.m. Lessons Learned from Closures Sites.

11:15 a.m. Discussion of the FY 2007 Budget.

12 p.m. Public Comment Period.

12:15 p.m. Lunch.

1:15 p.m. Invited James Rispoli, Assistant Secretary for Environmental Management.

2 p.m. Invited Charlie Anderson, Principal Deputy Assistant Secretary for Environmental Management.

2:30 p.m. Break.

2:45 p.m. Round Robin: Top Three Site Issues.

2:45-3:30: Each Board has five minutes to present top three site issues.

3:30-4: Questions and discussion of issues presented.

4 p.m. Public Comment Period.

4: 15 p.m. Discussion of Any Proposed Project from the Chairs.

5 p.m. Review of Day's Discussion and Friday's Agenda.

Friday, April 28, 2006

8:15 a.m. Opening. Welcome and summary of Thursday's work.

8:30 a.m. Briefings by DOE/EM Staff.

9:15 a.m. Discuss possible product(s) to send to DOE or any issues that may warrant follow up.

10:45 a.m. Break.

11 a.m. EM SSAB Organizational Issues.

11:30 a.m. Public Comment Period.

11:45 a.m. Meeting Wrap-Up.

12 p.m. Adjourn.

Public Participation: The meeting is open to the public. Written statements may be filed with the Board either before or after the meeting. Individuals who wish to make oral statements pertaining to agenda items should contact Doug Frost at the address above or by telephone at (202) 586-5619. Requests must be received five days prior to the meeting and reasonable provision will be made to include the presentation in the agenda. The Designated Federal Officer is empowered to conduct the meeting in a fashion that will facilitate the orderly conduct of business. Individuals wishing to make public comment will be provided a maximum of five minutes to present their comments.

Minutes: Minutes of this meeting will be available for public review and copying at the U.S. Department of Energy Freedom of Information Public Reading Room, 1E-190, Forrestal Building, 1000 Independence Avenue, SW., Washington, DC 20585 between 9 a.m. and 4.p.m., Monday—Friday except Federal holidays. Minutes will also be available by calling Doug Frost at (202) 586-5619 and will be posted at http://web.em.doe.gov/public/ssab/chairs.html.

Issued at Washington, DC, on March 28, 2006.
James N. Solit,
Advisory Committee Management Officer.

[FR Doc. E6-4770 Filed 3-31-06; 8:45 am]

BILLING CODE 6450-01-P